DEPARTMENT OF COMMERCE

International Trade Administration

[C-475-821]

Certain Stainless Steel Wire Rod from Italy: Amended Final Countervailing Duty Determination in Accordance with Decision upon Remand

AGENCY: Import Administration, International Trade Administration, Department of Commerce.

EFFECTIVE DATE: June 21, 2005.

FOR FURTHER INFORMATION CONTACT: Darla Brown, AD/CVD Operations, Office 3, Import Administration, International Trade Administration, U.S. Department of Commerce, 14th Street and Constitution Avenue NW, Washington, DC 20230; telephone: (202) 482-2786.

SUPPLEMENTARY INFORMATION: Following publication of the Final Affirmative Countervailing Duty Determination: Certain Stainless Steel Wire Rod from Italy, 63 FR 40474 (July 29, 1998) (Final Determination), and Notice of Countervailing Duty Order: Stainless Steel Wire Rod from Italy, 63 FR 49334 (September 15, 1998) (CVD Order), AL Tech Specialty Steel Corp., Carpenter Technology Corp., Republic Engineered Steels, Talley Metals Technology, Inc. and United Steel Workers of America, AFL-CIO/CLC (collectively, AL Tech), the petitioners in this case, and the respondents, Acciaierie Valbruna S.r.l. and Acciaierie Di Bolzano S.p.A. (collectively, Valbruna/Bolzano), challenged the Department's Final Determination before the U.S. Court of International Trade (CIT).

The Draft Final Results Pursuant to Remand (Draft Results) were released to parties on October 18, 2004. On October 22, 2004, the Department received comments from respondents on the Draft Results. Petitioners did not submit comments on the Draft Results. There were no substantive changes made to the Remand Results as a result of comments received on the Draft Results. On October 27, 2004, the Department responded to the CIT's Order of Remand by filing the Remand Results. As a result of the remand redetermination, the net subsidy rate for Valbruna/Bolzano was revised from 1.28 to 0.65 percent ad valorem, which is de minimis.

On December 1, 2004, the CIT received comments from petitioners and respondents. On December 21, 2004, the Department responded to these comments. On March 9, 2005, the CIT affirmed the Department's findings in the Remand Results. See AL Tech II, Slip Op. 05-30 (CIT March 9, 2005).

Amended Final Determination

As a result, we have recalculated the ad valorem subsidy rate for stainless steel wire rod from Italy for the period January 1, 1996, through December 31, 1996, for Valbruna/Bolzano. The revised net subsidy rate is 0.65 percent ad valorem, which is de minimis.

The Department has been enjoined from issuing any liquidation instructions to the U.S. Customs and Border Protection (CBP) until the conclusion of litigation of this case. Litigation has been completed, and, therefore, the Department will now instruct CBP to liquidate all relevant entries from Acciaierie Valbruna S.r.l. (Valbruna) and Acciaierie Di Bolzano S.p.A. (Bolzano) without regard to countervailing duties. The Department will issue liquidation instructions directly to CBP.

This amendment to the final countervailing duty determination is in accordance with section 705(d) of the Tariff Act of 1930, as amended (19 U.S.C. 1671d(d)), and § 351.210(c) of the Department's regulations.

Dated: June 15, 2005.
Joseph A. Spetrini,
Acting Assistant Secretary for Import Administration.

[FR Doc. E5-3214 Filed 6-20-05; 8:45 am]

BILLING CODE 3510-DS-S